FEDERAL COMMUNICATIONS COMMISSION

[DA 08-2338]

Consumer Advisory Committee

AGENCY: Federal Communications Commission.

ACTION: Notice.

SUMMARY: The Commission announces the date and agenda of the next meeting of its Consumer Advisory Committee “Committee”.

DATES: The next meeting of the Committee will take place on Friday, November 14, 2008,9 a.m. to 4 p.m., at the Commission's Headquarters Building, Room TW-C305, 445 12th Street, SW., Washington, DC 20554.

ADDRESSES: Federal Communications Commission, 445 12th Street, NW., Washington, DC 20554.

FOR FURTHER INFORMATION CONTACT: Scott Marshall, Consumer & Governmental Affairs Bureau, (202) 418-2809 (voice), (202) 418-0179 (TTY), or e-mail scott.marshal@fcc.gov.

SUPPLEMENTARY INFORMATION: On October 22, 2008, the Commission released Public Notice DA 08-2338, announcing the agenda, date and time of the Committee's next meeting.

At its November 14, 2008 meeting, the Committee will continue its consideration of digital television (DTV) transition issues. The Committee may also consider recommendations regarding broadband/universal service, captioning and relay services, the provision of auditory access to televised programming containing emergency information, as well as other consumer issues within the jurisdiction of the Commission. A limited amount of time on the agenda will be available for oral comments from the public. The Committee is organized under and operates in accordance with the provisions of the Federal Advisory Committee Act, 5 U.S.C. App. 2 (1988). The meeting is open to the public. Members of the public may address the Committee or may send written comments to: Scott Marshall, Designated Federal Officer of the Committee, at the address indicated on the first page of this document.

The meeting site is fully accessible to people using wheelchairs or other mobility aids. Sign language interpreters, open captioning, assistive listening devices, and Braille copies of the agenda and handouts will be provided on site. Other reasonable accommodations for people with disabilities are available upon request. Include a description of the accommodation you will need, and a way we can contact you if we need more information. Last minute requests will be accepted, but may be impossible to fill. Send an e-mail to: fcc504@fcc.gov or call the Consumer & Governmental Affairs Bureau at 202-418-0530 (voice), 202-418-0432 (TTY).

Federal Communications Commission.
Thomas Wyatt,
Deputy Bureau Chief, Consumer Outreach & Intergovernmental Affairs, CGB.

[FR Doc. E8-25800 Filed 10-28-08; 8:45 am]

BILLING CODE 6712-01-P